Title 3—

The President

Notice of October 31, 2000

Continuation of Sudan Emergency

On November 3, 1997, by Executive Order 13067, I declared a national emergency to deal with the unusual and extraordinary threat to the national security and foreign policy of the United States constituted by the actions and policies of the Government of Sudan. By Executive Order 13067, I imposed trade sanctions on Sudan and blocked Sudanese government assets. Because the Government of Sudan has continued its activities hostile to United States interests, the national emergency declared on November 3, 1997, and the measures adopted on that date to deal with that emergency must continue in effect beyond November 3, 2000. Therefore, in accordance with section 202(d) of the National Emergencies Act (50 U.S.C. 1622(d)), I am continuing the national emergency for 1 year with respect to Sudan.

This notice shall be published in the Federal Register and transmitted to the Congress.

wj

THE WHITE HOUSE,

October 31, 2000.

[FR Doc. 00-28368

Filed 11-01-00; 11:55 am]

Billing code 3195-01-P